DEPARTMENT OF DEFENSE

GENERAL SERVICES ADMINISTRATION

NATIONAL AERONAUTICS AND SPACE ADMINISTRATION

[OMB Control No. 9000-0043; Docket No. 2021-0053; Sequence No. 6]

Submission for OMB Review; Delivery Schedules

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding delivery schedules.

DATES: Submit comments on or before July 26, 2021.

ADDRESSES: Written comments and recommendations for this information collection should be sent within 30 days of publication of this notice to www.reginfo.gov/public/do/PRAMain. Find this particular information collection by selecting “Currently under Review—Open for Public Comments” or by using the search function.

Additionally, submit a copy to GSA through http://www.regulations.gov and follow the instructions on the site. This website provides the ability to type short comments directly into the comment field or attach a file for lengthier comments.

Instructions: All items submitted must cite OMB Control No. 9000-0046, Delivery Schedules. Comments received generally will be posted without change to http://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and Any Associated Form(s)

9000-0043, Delivery Schedules.

B. Need and Uses

This clearance covers the information that offerors may submit to comply with the following Federal Acquisition Regulation (FAR) requirements:

• 52.211-8, Time of Delivery

• 52.211-9, Desired and Required Time of Delivery

Contracting officers may use one of these time of delivery clauses to set forth a required delivery schedule and to allow offerors to propose an alternative delivery schedule. Contracting officers use this information to ensure supplies or services are obtained in a timely manner.

C. Annual Burden

Respondents: 1,527.

Total Annual Responses: 1,527.

Total Burden Hours: 763.5.

D. Public Comment

A 60-day notice was published in the Federal Register at 86 FR 19891, on April 15, 2021. No comments were received.

Obtaining Copies: Requesters may obtain a copy of the information collection documents from the GSA Regulatory Secretariat Division by calling 202-501-4755 or emailing GSARegSec@gsa.gov. Please cite OMB Control No. 9000-0043, Delivery Schedules.

William Clark,
Director, Office of Governmentwide Acquisition Policy, Office of Acquisition Policy, Office of Governmentwide Policy.

[FR Doc. 2021-13315 Filed 6-23-21; 8:45 am]

BILLING CODE 6820-EP-P